ENVIRONMENTAL PROTECTION AGENCY

[FRL OP-OFA-128]

Environmental Impact Statements; Notice of Availability

Responsible Agency: Office of Federal Activities, General Information 202-564-5632 or https://www.epa.gov/nepa.

Weekly receipt of Environmental Impact Statements (EIS)

Filed May 20, 2024 10 a.m. EST Through May 24, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240090, Final Supplement, BR, UT, Glen Canyon Dam Long-Term Experimental and Management Plan, Review Period Ends: 07/01/2024, Contact: Wayne Pullan 801-524-3600.

EIS No. 20240091, Final, BOEM, NJ, Atlantic Shores Offshore Wind South, Review Period Ends: 07/01/2024, Contact: Kimberly Sullivan 702-338-4766.

EIS No. 20240092, Draft, FERC, TN, Ridgeline Expansion Project, Comment Period Ends: 07/15/2024, Contact: Office of External Affairs 866-208-3372.

Dated: May 24, 2024.
Cindy S. Barger,
Director, NEPA Compliance Division, Office of Federal Activities.

[FR Doc. 2024-11965 Filed 5-30-24; 8:45 am]

BILLING CODE 6560-50-P